FEDERAL MINE SAFETY AND HEALTH REVIEW COMMISSION

Sunshine Act Notice

April 17, 2017.

Time and Date: 10:00 a.m., Thursday, May 11, 2017.

Place: The Richard V. Backley Hearing Room, Room 511N, 1331 Pennsylvania Avenue NW., Washington, DC 20004 (enter from F Street entrance).

Status: Open.

Matters to be Considered: The Commission will consider and act upon the following in open session: Secretary of Labor v. Mach Mining, LLC., Docket No. LAKE 2014-746. (Issues include whether the Judge erred in upholding citations for coal accumulations, designations that the violations were “significant and substantial,” and designations that the violations resulted from high negligence).

Any person attending this meeting who requires special accessibility features and/or auxiliary aids, such as sign language interpreters, must inform the Commission in advance of those needs. Subject to 29 CFR 2706.150(a)(3) and 2706.160(d).

Contact Person for More Information: Emogene Johnson (202) 434-9935/(202) 708-9300 for TDD Relay/1-800-877-8339 for toll free.

Phone Number for Listening to Argument: 1 (866) 867-4769, Passcode: 129-339.

Sarah L. Stewart,
Deputy General Counsel.

[FR Doc. 2017-08054 Filed 4-18-17; 11:15 am]

BILLING CODE 6735-01-P